Proclamation 7705 of September 16, 2003

Citizenship Day and Constitution Week, 2003

By the President of the United States of America

A Proclamation

In the summer of 1787, representatives from the States met in Philadelphia to establish a new Constitution that would unite America. They intended the Constitution to achieve six purposes: “to form a more perfect Union, establish Justice, insure domestic Tranquility, provide for the common defence, promote the general Welfare, and secure the Blessings of Liberty to ourselves and our Posterity.” Their work was successful and enduring. For more than two centuries, the American people have honored the foresight and wisdom of the Framers by respecting and defending our Constitution.

Our Constitution and our country have grown stronger over the last 216 years—through wars, searing internal conflicts, and great social, economic, and technological change. In the last 2 years, America has again been tested, this time by terrorist attacks designed to strike at our people, our institutions, and our constitutional government. In the wake of those attacks, we have renewed and strengthened our commitment to a more perfect Union and common defense, to justice and domestic tranquility, to the general welfare and the blessings of liberty.

On Citizenship Day and during Constitution Week, we remember those who have fought and those who have died to preserve, protect, and defend the Constitution. We recall and reiterate the vow of President Abraham Lincoln that these “dead shall not have died in vain—that this Nation, under God, shall have a new birth of freedom—and that government of the people, by the people, for the people, shall not perish from the earth.”

In remembrance of the signing of the Constitution and in recognition of the Americans who strive to uphold the duties and responsibilities of citizenship, the Congress, by joint resolution of February 29, 1952 (36 U.S.C. 106, as amended), designated September 17 as “Citizenship Day,” and by joint resolution of August 2, 1956 (36 U.S.C. 108, as amended), requested that the President proclaim the week beginning September 17 and ending September 23 of each year as “Constitution Week.”

NOW, THEREFORE, I, GEORGE W. BUSH, President of the United States of America, do hereby proclaim September 17, 2003, as Citizenship Day, and September 17 through September 23, 2003, as Constitution Week. I encourage Federal, State, and local officials, as well as leaders of civic, social, and educational organizations, to conduct ceremonies and programs to celebrate our Constitution and reaffirm our commitment as citizens to this great Nation.

IN WITNESS WHEREOF, I have hereunto set my hand this sixteenth day of September, in the year of our Lord two thousand three, and of the Independence of the United States of America the two hundred and twenty-eighth.

B

[FR Doc. 03-24159

Filed 9-18-03; 8:45 am]

Billing code 3195-01-P